DEPARTMENT OF LABOR

Employee Benefits Security Administration

Agency Information Collection Activities; Announcement of OMB Approvals

AGENCY: Employee Benefits Security Administration, Labor.

ACTION: Notice.

SUMMARY: The Employee Benefits Security Administration (EBSA) announces that the Office of Management and Budget (OMB) has approved certain collections of information, listed in the Supplementary Information below, following EBSA's submission of requests for such approvals under the Paperwork Reduction Act of 1995 (PRA) (44 U.S.C. 3501 et seq.). This notice describes the information collections that have been approved or re-approved, their OMB control numbers, and their current expiration dates.

FOR FURTHER INFORMATION CONTACT: Susan G. Lahne, Office of Policy and Research, Employee Benefits Security Administration, U.S. Department of Labor, 200 Constitution Avenue, NW., Room N-5647, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0114, Disclosures by Insurers to General Account Policyholders (final regulation). The expiration date for this information collection is March 31, 2009.

• OMB Control No. 1210-0090, Disclosures for Participant Directed Individual Account Plans under ERISA Section 404(c) (final regulation). The expiration date for this information collection is March 31, 2009.

• OMB Control No. 1210-0084, ERISA Technical Release 91-1 (notice). The expiration date for this information collection is March 31, 2009.

• OMB Control No. 1210-0066, ERISA Procedure 76-1; Advisory Opinion Procedure. The expiration date for this information collection is May 31, 2009.

• OMB Control No. 1210-0091, Settlement Agreements between a Plan and a Party in Interest (PTEs 94-71, 03-39). The expiration date for this information collection is May 31, 2009.

• OMB Control No. 1210-0122, Notice of Blackout Period under ERISA (final regulation). The expiration date for this information collection is May 31, 2009.

• OMB Control No. 1210-0100, Definition of Plan Assets—Participant Contributions (final regulation). The expiration date for this information collection is June 30, 2009.

• OMB Control No. 1210-0113, National Medical Support Notice—Part B (final regulation). The expiration date for this information collection is June 30, 2009.

• OMB Control No. 1210-0040, ERISA Summary Annual Report (final regulation). The expiration date for this information collection is July 31, 2009.

• OMB Control No. 1210-0115, Prohibited Transaction Class Exemption for Cross-Trades of Securities by Index and Model-Driven Funds (PTE 02-12). The expiration date for this information collection is August 31, 2009.

• OMB Control No. 1210-0082, Bank Collective Investment Funds; Prohibited Transaction Class Exemption 91-38. The expiration date for this information collection is August 31, 2009.

• OMB Control No. 1210-0083, PTE 90-1; Insurance Company Pooled Separate Accounts (prohibited transaction class exemption). The expiration date for this information collection is August 31, 2009.

• OMB Control No. 1210-0104, Prohibited Transaction Class Exemption 97-41; Collective Investment Funds Conversion Transactions. The expiration date for this information collection is August 31, 2009.

• OMB Control No. 1210-0124, Acquisition and Sale of Trust REIT Shares by Individual Account Plans Sponsored by Trust REITs (PTE 04-07). The expiration date for this information collection is August 31, 2009.

• OMB Control No. 1210-0058, Prohibited Transaction Class Exemptions for Multiemployer Plans & Multiemployer Apprenticeship Plans, PTEs 76-1, 77-10, 78-6. The expiration date for this information collection is October 31, 2009.

EBSA also notifies the public that the following information collections have been approved by OMB following EBSA's submission of an information collection request (ICR) for revision or change of a prior approval:

• OMB Control No. 1210-0118, Voluntary Fiduciary Correction Program (compliance assistance program). The expiration date for this information collection is May 31, 2009.

• OMB Control No. 1210-0127, Termination of Abandoned Individual Account Plans (final regulations, prohibited transaction class exemption). The expiration date for this information collection is June 30, 2009.

• OMB Control No. 1210-0059, Prohibited Transaction Exemption 86-128. The expiration date for this information collection is August 31, 2008.

The PRA provides that an agency may not conduct or sponsor, and a person is not required to respond to, a collection of information unless it displays a currently valid OMB control number. Publication of this notice satisfies this requirement with respect to the above-listed information collections, as provided in 5 CFR 1320.5(b)(2)(C).

Joseph S. Piacentini,
Director, Office of Policy and Research, Employee Benefits Security Administration.

[FR Doc. E6-18459 Filed 11-1-06; 8:45 am]

BILLING CODE 4510-29-P